DEPARTMENT OF COMMERCE

International Trade Administration

[Application No. 92-13A001]

Export Trade Certificate of Review

ACTION: Notice of Application to amend the Export Trade Certificate of Review issued to Aerospace Industries Association of America, Inc., Application No. 92-13A001.

SUMMARY: The Office of Trade and Economic Analysis (“OTEA”) of the International Trade Administration, Department of Commerce, received an application to amend an Export Trade Certificate of Review (“Certificate”). This notice summarizes the proposed amendment and requests comments relevant to whether the amended Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 7025-X, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 92-13A001.”

The Aerospace Industries Association of America Inc. (“AIA”) original Certificate was issued on September 8, 1992 (57 FR 41920, September 14, 1992). A summary of the current application for an amendment follows.

Summary of the Application

Applicant: Aerospace Industries Association of America, Inc. (“AIA”), 1000 Wilson Boulevard, Suite 1700, Arlington, VA 22209.

Contact: Matthew F. Hall, Attorney, Telephone: (202) 862-9700.

Application No.: 92-13A001.

Date Deemed Submitted: June 27, 2016.

Proposed Amendment: AIA seeks to amend its Certificate to:

1. Add the following companies as new Members of the Certificate within the meaning of section 325.2(l) of the Regulations (15 CFR 325.2(l)):

• Accurus Aerospace Corporation, LLC; Irving, TX

• Aerion Corporation; Reno, NV

• Aerospace Exports Incorporated; Moreno, CA

• AirMap; Santa Monica, CA

• Apex International Management Company; Daytona Beach, FL

• Ascent Manufacturing Inc.; Elk Grove Village, IL

• Astronautics Corporation of America; Milwaukee, WI

• Astronics Corporation; East Aurora, NY

• Boston Consulting Group; Boston, MA

• C4 Associates, Inc.; Los Angeles, CA

• CAE USA; Tampa, FL (controlling entity CAE; St. Laurent, Quebec, Canada)

• Capgemini; New York, NY (controlling entity Capgemini, S.A.; Paris, France)

• CDI Corporation; Philadelphia, PA

• Cytec Industries, Inc.; Woodland Park, NJ (controlling entity Solvay SA; Brussels, Belgium)

• Facebook, Inc.; Menlo Park, CA

• FS Precision Tech, Co. LLC; Compton, CA

• FLIR Systems, Inc.; Wilsonville, OR

• Iron Mountain, Inc.; Boston, MA

• J Anthony Group, LLC; Fort Worth, TX

• Kratos Defense & Security Solutions, Inc.; San Diego, CA

• Lavi Systems, Inc.; Van Nuys, CA

• Leidos, Inc.; Reston, VA (controlling entity Leidos Holdings, Inc.; Reston, VA)

• LS Technologies, LLC; Fairfax, VA

• Momentum Aviation Group; Woodbridge, VA

• Pacific Design Technologies; Goleta, CA

• Park-Ohio Holdings Corp.; Cleveland, OH

• Primus Technologies Corporation; Williamsport, PA

• salesforce.com, inc.; San Francisco, CA

• Spacecraft Components Corporation; Las Vegas, NV

• Sunflower Systems; Arlington, VA

• The NORDAM Group, Inc.; Tulsa, OK

• Tip Technologies; Waukesha, WI

• TriMas Aerospace; Los Angeles, CA (controlling entity TriMas Corporation; Bloomfield Hills, MI)

• United Parcel Service of America, Inc.; Atlanta, GA

• Universal Protection Services; Santa Ana, CA (controlling entity Universal Services of America; Santa Ana, CA)

• Verify, Inc.; Irvine, CA

• Verizon Enterprise Solutions; Basking Ridge, NJ (controlling entity Verizon Communications, Inc., New York, NY)

• VogelHood; Washington, DC

• Xerox; Norwalk, CT

2. Delete the following companies as Members of AIA's Certificate:

• Aero Mechanical Industries, Inc.

• Align Aerospace, LLC

• Allfast Fastening Systems

• Alliant Techsystems, Inc.

• AlliedBarton Security Services, LLC

• AMT II Corporation

• ARINC Aerospace

• B/E Aerospace, Inc.

• BRS Aerospace

• CERTON Software, Inc.

• Chromalloy

• Colt Defense, LLC

• Deltek, Inc.

• DigitalGlobe, Inc.

• ENSCO, Inc.

• Erikson Air Crane Inc.

• ESI North America

• ESIS, Inc.

• Exelis, Inc.

• Galaxy Technologies

• General Atomics Aeronautical Systems, Inc.

• Groen Brothers Aviation Global, Inc.

• Guardsmark LLC

• Hi Shear Technology Corporation

• HITCO Carbon Composites, Inc.

• Hydra Electric Company

• IEC Electronics Corporation

• Kemet Electronics Corporation

• NobleTek

• Ontic Engineering and Manufacturing, Inc.

• Oracle USA, Inc.

• Pall Aeropower Corporation

• Parametric Technology Corporation

• Pinkerton Government Services, Inc.

• RAF Tabtronics LLC

• RTI International Metals, Inc.

• Sila Solutions Group

• Satair USA Inc.

• Science Applications International Corporation

• Space Exploration Technologies Corporation

• SRA International, Inc.

• TASC, Inc.

• Timken Aerospace Transmissions, LLC

3. Change in name or address for the following Members:

• AAR Manufacturing, Inc. of Wood Dale, IL, is now named AAR Corp.

• Aerojet, of Rancho Cordova, CA, is now named Aerojet Rocketdyne. The controlling entity is Aerojet Rocketdyne Holdings, Inc., Rancho Cordova, CA.

• AGC Aerospace Defense of Oklahoma City, OK, is now named AGC Aerospace & Defense. The controlling entity is Acorn Growth Companies, Oklahoma City, OK.

• Celestica Corporation of Toronto, Canada is now named Celestica Inc.

• Infotech Enterprises America Inc., of East Hartford, CT, is now named Cyient, Inc. The controlling entity and AIA member is Cyient, Ltd. of Hyderabad, India.

• Natel Engineering Co. Inc. of Chatsworth, CA is now named NEO Tech.

• Pacifica Engineering, Inc. of Mukiliteo, WA is now named MTorres America of Bothell, WA. The controlling entity is M.TORRES DISENOS INDUSTRIALES, SAU of Torres de Elorz (Navarra) Spain.

• Pinkerton Government Services Inc. of Springfield, VA is now Securitas Critical Infrastructure Services, Inc.

AIA's proposed amendment of its Export Trade Certificate of Review would result in the following membership list:

• 3M Company; St. Paul, MN

• AAR Corp.; Wood Dale, IL

• Accenture; Chicago, IL

• Accurus Aerospace Corporation, LLC; Irving, TX

• Acutec Precision Machining, Inc.; Saegertown, PA

• Aerion Corporation; Reno, NV

• Aero-Mark, LLC; Ontario, CA

• Aerojet Rocketdyne; Rancho Cordova, CA

• Aerospace Exports Incorporated; Moreno, CA

• AGC Aerospace & Defense; Oklahoma City, OK

• Aireon LLC; McLean, VA

• AirMap; Santa Monica, CA

• Alcoa Defense; Crystal City, VA

• Allied Telesis, Inc.; Bothell, WA

• American Pacific Corporation; Las Vegas, NV

• Analytical Graphics, Inc.; Exton, PA

• Apex International Management Company; Daytona Beach, FL

• Ascent Manufacturing Inc.; Elk Grove Village, IL

• Astronautics Corporation of America; Milwaukee, WI

• Astronics Corporation: East Aurora, NY

• Aurora Flight Sciences Corporation; Manassas, VA

• AUSCO, Inc.; Port Washington, NY

• Avascent; Washington, DC

• B&E Group, LLC; Southwick, MA

• BAE Systems, Inc.; Rockville, MD

• Ball Aerospace & Technologies Corp.; Boulder, CO

• Barnes Group Inc.; Bristol, CT

• Belcan Corporation; Cincinnati, OH

• Benchmark Electronics, Inc.; Angleton, TX

• Bombardier; Montreal, Canada

• Boston Consulting Group; Boston, MA

• C4 Associates, Inc.; Los Angeles, CA

• CADENAS PARTsolutions, LLC; Cincinnati, OH

• CAE USA; Tampa, FL

• Camcode Division of Horizons, Inc.; Cleveland, OH

• Capgemini; New York, NY

• Castle Metals; Oak Brook, IL

• CDI Corporation; Philadelphia, PA

• Celestica Inc.; Toronto, Canada

• Click Bond, Inc.; Carson City, NV

• Cobham; Arlington, VA

• Computer Sciences Corporation; Falls Church, VA

• CPI Aerostructures, Inc.; Edgewood, NY

• Crane Aerospace & Electronics; Lynnwood, WA

• Cubic Corporation, Inc.; San Diego, CA

• Curtiss-Wright Corporation; Parsippany, NJ

• Cyient Ltd.; East Hartford, CT

• Cytec Industries, Inc.; Woodland Park, NJ

• Deloitte Consulting LLP; New York, NY

• Denison Industries, Inc.; Denison, TX

• Ducommun Incorporated; Carson, CA

• DuPont Company; New Castle, DE

• Eaton Corporation; Cleveland, OH

• Elbit Systems of America, LLC; Fort Worth, TX

• Embraer Aircraft Holding Inc.; Fort Lauderdale, FL

• EPS Corporation; Tinton Falls, NJ

• Ernst & Young LLP; New York, NY

• Esterline Technologies; Bellevue, WA

• Exostar LLC; Herndon, VA

• Facebook, Inc.; Menlo Park, CA

• Flextronics International USA; San Jose, CA

• Flight Safety International Inc.; Flushing, NY

• FLIR Systems, Inc.; Wilsonville, OR

• Fluor Corporation; Irving, TX

• FS Precision Tech, Co. LLC; Compton, CA

• FTG Circuits, Inc.; Chatsworth, CA

• General Dynamics Corporation; Falls Church, VA

• General Electric Aviation; Cincinnati, OH

• GKN Aerospace North America; Irving, TX

• Harris Corporation; Melbourne, FL

• HCL America Inc.; Sunnyvale, CA

• HEICO Corporation; Hollywood, FL

• Hexcel Corporation; Stamford, CT

• Honeywell Aerospace; Phoenix, AZ

• HP Enterprise Services—Aerospace; Palo Alto, CA

• Huntington Ingalls Industries, Inc.; Newport News, VA

• IBM Corporation; Armonk, NY

• Iron Mountain, Inc.; Boston, MA

• J Anthony Group, LLC; Fort Worth, TX

• Jabil Defense & Aerospace Services LLC; St. Petersburg, FL

• Kaman Aerospace Corporation; Bloomfield, CT

• KPMG LLP; New York, NY

• Kratos Defense & Security Solutions, Inc.; San Diego, CA

• L-3 Communications Corporation; New York, NY

• LAI International, Inc.; Scottsdale, AZ

• Lavi Systems, Inc.; Van Nuys, CA

• Leidos, Inc.; Reston, VA

• LMI Aerospace Inc.; St. Charles, MO

• Lockheed Martin Corporation; Bethesda, MD

• Lord Corporation; Cary, NC

• LS Technologies, LLC; Fairfax, VA

• Momentum Aviation Group; Woodbridge, VA

• Marotta Controls, Inc.; Montville, NJ

• Meggitt-USA, Inc.; Simi, CA

• Micro-Coax, Inc.; Pottstown, PA

• Microsemi Corporation; Aliso Viejo, CA

• MOOG Inc.; East Aurora, NY

• MTorres America; Bothell, WA

• National Technical Systems, Inc.; Calabasas, CA

• NEO Tech.; Chatsworth, CA

• Northrop Grumman Corporation; Los Angeles, CA

• NYLOK, LLC; Macomb, MI

• O'Neil & Associates, Inc.; Miamisburg, OH

• Oxford Performance Materials; South Windsor, CT

• Pacific Design Technologies; Goleta, CA

• Park-Ohio Holdings Corp.; Cleveland, OH

• Parker Aerospace; Irvine, CA

• Plexus Corporation; Neenah, WI

• PPG Aerospace-Sierracin Corporation; Sylmar, CA

• Primus Technologies Corporation; Williamsport, PA

• PWC Aerospace & Defense Advisory Services; McLean, VA

• Raytheon Company; Waltham, MA

• Rhinestahl Corporation; Mason, OH

• Rix Industries; Benecia, CA

• Rockwell Collins; Cedar Rapids, IA

• Rolls-Royce North America Inc.; Reston, VA

• salesforce.com, inc.; San Francisco, CA

• SAP America, Inc.; Newtown Square, PA

• SCB Training, Inc.; Santa Fe Springs, CA

• Seal Science, Inc.; Irvine, CA

• Securitas Critical Infrastructure Services, Inc.; Springfield, VA

• Siemens PLM Software; Plano, TX

• Sierra Nevada Corporation, Space Systems; Littleton, CO

• SIFCO Industries, Inc.; Cleveland, OH

• SITA; Atlanta, GA

• Spacecraft Components Corporation; Las Vegas, NV

• Sparton Corporation; Schaumburg, IL

• Spirit AeroSystems; Wichita, KS

• Sunflower Systems; Arlington, VA

• Tech Manufacturing, LLC; Wright City, MO

• Textron Inc.; Providence, RI

• The Boeing Company; Chicago, IL

• The NORDAM Group, Inc.; Tulsa, OK

• The Padina Group, Inc.; Lancaster, PA

• Therm, Incorporated; Ithaca, NY

• Tip Technologies; Waukesha, WI

• TriMas Aerospace; Los Angeles, CA

• Triumph Group, Inc.; Wayne, PA

• United Parcel Service of America, Inc.; Atlanta, GA

• United Technologies Corporation; Hartford, CT

• Universal Protection Services; Santa Ana, CA

• Verify, Inc.; Irvine, CA

• Verizon Enterprise Solutions; Basking Ridge, NJ

• Virgin Galactic, LLC; Las Cruces, NM

• VogelHood; Washington, DC

• Wesco Aircraft Hardware Corporation; Valencia, CA

• Woodward, Inc.; Fort Collins, CO

• Xerox; Norwalk, CT

Dated: July 5, 2016.
Joseph Flynn,
Director, Office of Trade and Economic Analysis, International Trade Administration.

[FR Doc. 2016-16293 Filed 7-8-16; 8:45 am]

BILLING CODE 3510-DS-P